DEPARTMENT OF ENERGY

Office of Energy Efficiency and Renewable Energy

Hydrogen and Fuel Cell Technical Advisory Committee (HTAC)

AGENCY: Office of Energy Efficiency and Renewable Energy, Department of Energy.

ACTION: Notice of Open Meeting.

SUMMARY: This notice announces an open meeting of the Hydrogen and Fuel Cell Technical Advisory Committee (HTAC). The Federal Advisory Committee Act, Public Law 92-463, 86 Stat. 770, requires notice of the meeting be announced in the Federal Register.

DATES: Tuesday, April 23, 2013, 9:00 a.m.-5:00 p.m., Wednesday, April 24, 2013, 8:00 a.m.-11:30 a.m.

ADDRESSES: National Renewable Energy Laboratory (NREL); 901 D Street SW., Suite 930, Washington, DC 20024.

FOR FURTHER INFORMATION CONTACT: Email: HTAC@nrel.gov or at the mailing address: Joseph Stanford, Designated Federal Officer, U.S. Department of Energy, Office of Energy Efficiency and Renewable Energy, 1000 Independence Avenue, Washington, DC 20585.

SUPPLEMENTARY INFORMATION:

Purpose of the Committee: The Hydrogen and Fuel Cell Technical Advisory Committee (HTAC) was established under section 807 of the Energy Policy Act of 2005 (EPACT), Pub. L. No. 109-58; 119 Stat. 849.

Purpose of the Meeting: To provide advice, information, and recommendations to the Secretary of Energy on the program authorized by Title VIII of EPACT.

Tentative Agenda: (updates will be posted on the Web at: http://hydrogen.energy.gov).

• Public Comment

• HTAC Working Group Updates

• DOE Leadership Updates

• Program and Budget Updates

• Fuel Cell and Hydrogen Industry Speakers

• Other Industry Speakers

• Government Speakers

• Transportation Updates

• Department of Defense Update

• Ohio Activities and Initiatives

Public Participation: The meeting is open to the public. Individuals who would like to attend and/or to make oral statements during the public comment period must register no later than 5:00 p.m. on Wednesday, April 17, 2013, by email at HTAC@nrel.gov. Foreign nationals must register no later than 5:00 p.m. on Monday, April 8, 2013. Foreign nationals will be required to fill out a questionnaire in order to have access to the meeting site and will be notified within 5-10 business days regarding their access to the meeting. An early confirmation of attendance will help to facilitate access to the building more quickly. Entry to the building will be restricted to those who have confirmed their attendance in advance. Please provide your name, organization, citizenship, and contact information. Anyone attending the meeting will be required to present government-issued identification. Those wishing to make a public comment are required to register. The public comment period will take place between 9:00 a.m. and 9:30 a.m. on April 23, 2013. Time allotted per speaker will depend on the number who wish to speak but will not exceed five minutes. Those not able to attend the meeting or have insufficient time to address the committee are invited to send a written statement to HTAC@nrel.gov.

Minutes: The minutes of the meeting will be available for public review at http://hydrogen.energy.gov.

Issued at Washington, DC, on March 21, 2013.
LaTanya R. Butler,
Deputy Committee Management Officer.

[FR Doc. 2013-07026 Filed 3-26-13; 8:45 am]

BILLING CODE 6450-01-P